DEPARTMENT OF ENERGY

[GDO Docket No. EA-508]

Application for Authorization To Export Electric Energy; ENGIE Energy Marketing NA, Inc.

AGENCY: Grid Deployment Office, Department of Energy.

ACTION: Notice of application.

SUMMARY: ENGIE Energy Marketing NA, Inc. (the Applicant or EEMNA) has applied for authorization to transmit electric energy from the United States to Mexico pursuant to the Federal Power Act.

DATES: Comments, protests, or motions to intervene must be submitted on or before April 29, 2024.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On February 26, 2024, the Applicant filed an application with DOE (Application or App.) to transmit electric energy from the United States to Mexico for a term of five-years. App. at 1.

According to the Application, EEMNA is a Delaware corporation with its principal place of business in Houston, Texas. App. at 1. EEMNA represents it is a wholly owned subsidiary of ENGIE Holdings Inc., which is a wholly owned indirect subsidiary of ENGIE S.A.. Id. EEMNA states it is “certified as a Qualified Scheduling Entity with the Electric Reliability Council of Texas (“ERCOT”) and a wholesale power marketer registered with the Public Utilities Commission of Texas.” Id. at 2. The Applicant further states it “engages in the business of marketing and trading electric energy and other energy related products in the United States and is authorized to sell wholesale electric energy, capacity and ancillary services outside of ERCOT at market-based rates pursuant to authority granted by the Federal Energy Regulatory Commission (“FERC”) under a wholesale power sales tariff currently on file with FERC.” Id.

The Applicant asserts it “does not own or control any generation, transmission, or distribution facilities, nor does [it] have a franchised service area.” App. at 2. The Applicant represents that it “will comply with existing industry procedures for obtaining transmission capacity, including reserving transmission service in accordance with FERC's Open Access Same-Time Information System (“OASIS”) and scheduling delivery of the export with the appropriate Regional Transmission Organization(s) (“RTOs”) or Independent System Operator(s) (“ISOs”) and/or Balancing Authority areas.” Id. at 6. EEMNA notes its proposed exports would be surplus to the needs of the selling entities. Id. at 5. For these reasons, the Applicant asserts that “its exports cannot have any adverse impact on the reliability, stability, or sufficiency of supply on a franchised electric supply system or the electric power supply within the U.S.” Id.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning EEMNA's Application should be clearly marked with GDO Docket No. EA-508. Additional copies are to be provided directly to Adam Roth, ENGIE Energy Marketing NA, Inc., 1360 Post Oak Blvd., Suite 400, Houston, TX 77056, adam.roth@engie.com, and Catherine McCarthy, Bracewell LLP, 2001 M Street NW, Suite 900, Washington, DC 20036-3310, cathy.mccarthy@bracewell.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on March 25, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 26, 2024.
Treena V. Garrett,
Federal Register Liaison Officer, U.S. Department of Energy.

[FR Doc. 2024-06729 Filed 3-28-24; 8:45 am]

BILLING CODE 6450-01-P